DEPARTMENT OF HEALTH AND HUMAN SERVICES

Centers for Disease Control and Prevention

Notice of Award of a Single Source Cooperative Agreement To Fund Universidad del Valle de Guatemala

AGENCY: Centers for Disease Control and Prevention (CDC), Department of Health and Human Services (HHS).

ACTION: Notice.

SUMMARY: The Centers for Disease Control and Prevention (CDC), located within the Department of Health and Human Services (HHS), announces the award of approximately $5,000,000 with an expected total funding of approximately $25,000,000 over a 5-year period, to the Universidad del Valle de Guatemala. This award will build upon previously funded Global Health Security projects, and specifically surveillance activities by CDC to collaboratively work with host countries to create sustainable systems that can inform local public health policy.

DATES: The period for this award will be September 30, 2024, through September 29, 2029.

FOR FURTHER INFORMATION CONTACT: Shana Eatman, Centers for Disease Control and Prevention, 1600 Clifton Rd., Atlanta, GA, Telephone: 770-488-3933, Email: DGHPNOFOs@cdc.gov.

SUPPLEMENTARY INFORMATION: The single source award will build on existing public health infrastructure and CDC-supported surveillance and workforce development platform in the region. This award will enable CDC to work collaboratively with recipients to sustain its Global Health Security Agenda (GHSA) efforts to strengthen health protection, detection, and response capacity in Guatemala/Central America. Universidad del Valle de Guatemala is in a unique position to conduct this work, as it will focus on multi-pathogen key public health impact disease surveillance of respiratory pathogen surveillance, support for entomological activities and public health workforce development.

Summary of the Award

Recipient: Universidad del Valle de Guatemala.

Purpose of the Award: The purpose of this award is to enhance global health security in Guatemala/CA through epidemiologic, clinical, and laboratory-based surveillance. This award should contribute to strengthening national notifiable disease surveillance and translating data into public health action.

Amount of Award: $5,000,000 in Federal Fiscal Year (FFY) 2024 funds, with a total estimated $25,000,000 for the 5-year period of performance, subject to availability of funds. Please note, Year 1 funding is as follows: $5,000,000 for Core Component 1, $10,000,000 for Approved but Unfunded (ABU) Component 2, $15,000,000 Component 3 (ABU), and $15,000,000 for (ABU) Component 4.

Period of Performance: September 30, 2024, through September 29, 2029.

Authority: This program is authorized under section 307 of the Public Health Service Act [42 U.S.C. 242I] and section 317(k)(2) of the Public Health Service Act [42 U.S.C. 247(b)(k2].

Dated: May 21, 2024.
Jamie Legier,
Acting Director, Office of Grants Services, Centers for Disease Control and Prevention.

[FR Doc. 2024-11725 Filed 5-28-24; 8:45 am]

BILLING CODE 4163-18-P